SUSQUEHANNA RIVER BASIN COMMISSION

Projects Approved for Consumptive Uses of Water

AGENCY: Susquehanna River Basin Commission.

ACTION: Notice.

SUMMARY: This notice lists Approvals by Rule for projects by the Susquehanna River Basin Commission during the period set forth in DATES.

DATES: July 1-31, 2022.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22 (e) and 18 CFR 806.22 (f) for the time period specified above:

Water Source Approval—Issued Under 18 CFR 806.22(f)

1. Inflection Energy (PA), LLC; Pad ID: Reynolds; ABR-202207001; Gamble Township, Lycoming County, Pa.; Consumptive Use of Up to 4.0000 mgd; Approval Date: July 2, 2022.

2. Seneca Resources Company, LLC; Pad ID: Cruttenden 846; ABR-20100685.R2; Middlebury Township, Tioga County, Pa.; Consumptive Use of Up to 4.0000 mgd; Approval Date: July 21, 2022.

3. Chesapeake Appalachia, L.L.C.; Pad ID: Arnold A Drilling Pad; ABR-201207004.R2; Monroe Township, Bradford County, Pa.; Consumptive Use of Up to 2.0000 mgd; Approval Date: July 21, 2022.

4. Chesapeake Appalachia, L.L.C.; Pad ID: Coveytown; ABR-201007024.R2; Cherry Township, Sullivan County, Pa.; Consumptive Use of Up to 7.5000 mgd; Approval Date: July 21, 2022.

5. Chesapeake Appalachia, L.L.C.; Pad ID: Forbes NEW; ABR-201007022.R2; Asylum Township, Bradford County, Pa.; Consumptive Use of Up to 7.5000 mgd; Approval Date: July 21, 2022.

6. Chesapeake Appalachia, L.L.C.; Pad ID: Insinger; ABR-201007023.R2; Forks and Cherry Townships, Sullivan County, Pa.; Consumptive Use of Up to 7.5000 mgd; Approval Date: July 21, 2022.

7. Seneca Resources Company, LLC; Pad ID: Synnestvedt 878; ABR-201007009.R2; Osceola Township, Tioga County, Pa.; Consumptive Use of Up to 4.0000 mgd; Approval Date: July 21, 2022.

8. Seneca Resources Company, LLC; Pad ID: Murdock 862; ABR-201007015.R2; Deerfield Township, Tioga County, Pa.; Consumptive Use of Up to 4.0000 mgd; Approval Date: July 21, 2022.

9. Pennsylvania General Energy Company, L.L.C.; Pad ID: COP Tract 293 Pad B; ABR-201206006.R2; Cummings Township, Lycoming County, Pa.; Consumptive Use of Up to 3.5000 mgd; Approval Date: July 21, 2022.

10. Pennsylvania General Energy Company, L.L.C.; Pad ID: COP Tract 726 Pad B; ABR-201706002.R1; Plunkett's Creek Township, Lycoming County, Pa.; Consumptive Use of Up to 4.5000 mgd; Approval Date: July 21, 2022.

11. EXCO Resources (PA), LLC; Pad ID: Poor Shot East Drilling Pad #2; ABR-20100681.R2; Anthony Township, Lycoming County, Pa.; Consumptive Use of Up to 8.0000 mgd; Approval Date: July 21, 2022.

12. BKV Operating, LLC; Pad ID: Solanick 5H ; ABR-201007007.R2; Washington Township, Wyoming County, Pa.; Consumptive Use of Up to 4.0000 mgd; Approval Date: July 21, 2022.

13. Repsol Oil & Gas USA, LLC; Pad ID: Cochran 705; ABR-201007012.R2; Union Township, Tioga County, Pa.; Consumptive Use of Up to 6.0000 mgd; Approval Date: July 21, 2022.

14. Chesapeake Appalachia, L.L.C.; Pad ID: Cranrun; ABR-20100680.R2; Leroy Township, Bradford County, Pa.; Consumptive Use of Up to 7.5000 mgd; Approval Date: July 24, 2022.

15. Chesapeake Appalachia, L.L.C.; Pad ID: Curtain NEW; ABR-201006110.R2; Windham Township, Wyoming County, Pa.; Consumptive Use of Up to 7.5000 mgd; Approval Date: July 24, 2022.

16. Chesapeake Appalachia, L.L.C.; Pad ID: Henderson; ABR-201006103.R2; Fox Township, Sullivan County, Pa.; Consumptive Use of Up to 7.5000 mgd; Approval Date: July 24, 2022.

17. Chesapeake Appalachia, L.L.C.; Pad ID: Kipar NEW; ABR-201006107.R2; Auburn Township, Susquehanna County, Pa.; Consumptive Use of Up to 7.5000 mgd; Approval Date: July 24, 2022.

18. Seneca Resources Company, LLC; Pad ID: Broadbent 466; ABR-20100673.R2; Delmar Township, Tioga County, Pa.; Consumptive Use of Up to 4.0000 mgd; Approval Date: July 24, 2022.

19. Seneca Resources Company, LLC; Pad ID: PHC Pad R; ABR-20100690.R2; Lawrence Township, Clearfield County, Pa.; Consumptive Use of Up to 4.0000 mgd; Approval Date: July 24, 2022.

20. Seneca Resources Company, LLC; Pad ID: Camp Never Too Late 521; ABR-20100683.R2; Rutland Township, Tioga County, Pa.; Consumptive Use of Up to 4.0000 mgd; Approval Date: July 24, 2022.

21. Chesapeake Appalachia, L.L.C.; Pad ID: Postell A Drilling Pad; ABR-201207003.R2; Franklin and Leroy Townships, Bradford County, Pa.; Consumptive Use of Up to 2.0000 mgd; Approval Date: July 24, 2022.

22. Chesapeake Appalachia, L.L.C.; Pad ID: Barnes; ABR-201007048.R2; Smithfield Township, Bradford County, Pa.; Consumptive Use of Up to 7.5000 mgd; Approval Date: July 24, 2022.

23. Chesapeake Appalachia, L.L.C.; Pad ID: Katzenstein NEW; ABR-201007029.R2; Wysox Township, Bradford County, Pa.; Consumptive Use of Up to 7.5000 mgd; Approval Date: July 24, 2022.

24. Chesapeake Appalachia, L.L.C.; Pad ID: Milochik; ABR-201007034.R2; Auburn Township, Susquehanna County, Pa.; Consumptive Use of Up to 7.5000 mgd; Approval Date: July 24, 2022.

25. Chesapeake Appalachia, L.L.C.; Pad ID: Pa's Farm Family A Drilling Pad; ABR-201207013.R2; Smithfield Township, Bradford County, Pa.; Consumptive Use of Up to 2.0000 mgd; Approval Date: July 24, 2022.

26. SWN Production Company, LLC; Pad ID: Blaine Hoyd (M Pad); ABR-201207006.R2; Stevens Township, Bradford County, Pa.; Consumptive Use of Up to 4.9990 mgd; Approval Date: July 24, 2022.

27. SWN Production Company, LLC; Pad ID: Beaumont Schaunt (GU U); ABR-201207007.R2; Stevens Township, Bradford County, Pa.; Consumptive Use of Up to 4.9990 mgd; Approval Date: July 24, 2022.

28. Pennsylvania General Energy Company, L.L.C.; Pad ID: COP Tract 293 Pad C; ABR-201207010.R2; Cummings Township, Lycoming County, Pa.; Consumptive Use of Up to 3.5000 mgd; Approval Date: July 24, 2022.

29. Pennsylvania General Energy Company, L.L.C.; Pad ID: COP Tract 293 Pad E; ABR-201207011.R2; Cummings Township, Lycoming County, Pa.; Consumptive Use of Up to 3.5000 mgd; Approval Date: July 24, 2022.

30. Repsol Oil & Gas USA, LLC; Pad ID: Westerbaan 723; ABR-201007038.R2; Union Township, Tioga County, Pa.; Consumptive Use of Up to 6.0000 mgd; Approval Date: July 24, 2022.

31. Range Resources—Appalachia, LLC; Pad ID: State Game Lands 075A—West Pad; ABR-201207002.R1; Pine Township, Lycoming County, Pa.; Consumptive Use of Up to 4.0000 mgd; Approval Date: July 24, 2022.

32. Chesapeake Appalachia, L.L.C.; Pad ID: Jacobs; ABR-201007028.R2; Rome Township, Bradford County, Pa.; Consumptive Use of Up to 7.5000 mgd; Approval Date: July 26, 2022.

33. Seneca Resources Company, LLC; Pad ID: Maneval 296; ABR-201007046.R2; Delmar Township, Tioga County, Pa.; Consumptive Use of Up to 4.0000 mgd; Approval Date: July 26, 2022.

34. Seneca Resources Company, LLC; Pad ID: Taft 851; ABR-201007047.R2; Middlebury Township, Tioga County, Pa.; Consumptive Use of Up to 4.0000 mgd; Approval Date: July 26, 2022.

35. EQT ARO LLC; Pad ID: COP Tr 356 Pad D; ABR-201007052.R2; Cummings Township, Lycoming County, Pa.; Consumptive Use of Up to 4.0000 mgd; Approval Date: July 26, 2022.

36. Coterra Energy LLC; Pad ID: Rag Apple LLC P1; ABR-201207015.R2; Jessup Township, Susquehanna County, Pa.; Consumptive Use of Up to 5.0000 mgd; Approval Date: July 26, 2022.

37. Coterra Energy LLC; Pad ID: FlowerT P1; ABR-201207016.R2; Springville Township, Susquehanna County, Pa.; Consumptive Use of Up to 5.0000 mgd; Approval Date: July 26, 2022.

Authority: Public Law 91-575, 84 Stat. 1509 et seq., 18 CFR parts 806 and 808.

Dated: August 3, 2022.
Jason E. Oyler,
General Counsel and Secretary to the Commission.

[FR Doc. 2022-16931 Filed 8-5-22; 8:45 am]

BILLING CODE 7040-01-P